DEPARTMENT OF HEALTH AND HUMAN SERVICES

Centers for Medicare & Medicaid Services

42 CFR Parts 410 and 419

[CMS-1404-P]

RIN 0938-AP17

Medicare Program: Proposed Changes to the Hospital Outpatient Perspective Payment System and CY 2009 Payment Rates; Proposed Changes to the Ambulatory Surgical Center Payment System and CY 2009 Payment Rates

Correction

In proposed rule document E8-15539 beginning on page 41416 in the issue of Friday, July 18, 2008, make the following correction:

On pages 41504 through 41505, Table 30 should be replaced to appear as follows:

BILLING CODE 4120-01-D

[FR Doc. Z8-15539 Filed 8-8-08; 8:45 am]

BILLING CODE 4120-01-C